DEPARTMENT OF THE INTERIOR

Geological Survey

Request for Public Comments on Information Collection To Be Submitted to OMB for Review Under the Paperwork Reduction Act

A request to reinstate the information collection described below will be submitted to the Office of Management and Budget for approval under the provisions of the Paperwork Reduction Act (44 U.S.C. chapter 35). Copies of the proposed collection of information may be obtained by contacting the Bureau clearance officer at the phone number listed below. Comments and suggestions on the proposal should be made within 60 days directly to the Bureau clearance officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions of the bureaus, including whether the information will have practical utility;

2. The accuracy of the Bureau estimate of the burden of the collection of information, including the validity of the methodology and assumptions used;

3. The quality, utility, and clarity of the information to be collected; and

4. How to minimize the burden of the collection of information on those who are to respond, including the use of appropriate automated, electronic, mechanical, or other forms of information technology.

Title: North American Bird Banding Program—Encounter Database.

Previous OMB Approval Number: 1018-0005.

Summary: The North American Bird Banding Program receives reports of banded birds (encounters) from the public via a 1-800 telephone number, web site forms, and letters. These reports are submitted voluntarily at the volition of the reporter. The information that is collected (band number, type of bird, where and when it was found, how found) is computerized and utilized by state, provincial, federal and private agencies as well as by both U.S. and Canadian researchers. The data on waterfowl and other game birds are one part of the data set used to help managers set hunting regulations. All data are utilized by both private and public agencies and individuals for management and conservation studies. Also, avian researchers throughout North America utilize these data in many of their studies as well as in many publications on avian topics. All persons reporting a band encounter receive a Certificate of Appreciation giving them information on type of bird, when and where was banded and who banded. For further information on the North American Banding Program and the Encounter Database see our Web site (http://www.pwrc.usgs.gov/bbl).

Estimated Annual Number of Respondents: 85,000.

Estimated Annual Burden Hours: 7,083.

Affected Public: Primarily U.S. and Canadian citizens. Some citizens of Mexico, the Caribbean, Central America, Middle America, South America, Europe, Asia.

For Further Information Contact: To obtain copies of the survey, contact the Bureau clearance officer, U.S. Geological Survey, 807 National Center, 12201 Sunrise Valley Drive, Reston, Virginia 20192, telephone (703) 648-7313 or see the Web site at http://www.pwrc.usgs.gov/bbl.

Dated: August 11, 2003.
Ken Williams,
Acting Associate Director for Biology.

[FR Doc. 03-21431 Filed 8-20-03; 8:45 am]

BILLING CODE 4310-Y7-M